DEPARTMENT OF TRANSPORTATION

Federal Transit Administration

Major Investment Study/Draft Environmental Impact Statement for the Bergen-Passaic Cross County Corridor, Bergen and Passaic Counties, New Jersey

AGENCY: Federal Transit Administration (FTA), DOT.

ACTION: Notice of intent to prepare a major investment study/draft environmental impact statement (MIS/DEIS).

SUMMARY: The Federal Transit Administration (FTA) and the New Jersey Transit Corporation (NJ TRANSIT) intend to prepare a Major Investment Study/Draft Environmental Impact Statement (MIS/DEIS) to study transportation access improvements along the Bergen-Passaic Cross County Corridor (also known as the NYS&W corridor) in Bergen and Passaic Counties, New Jersey. The MIS/DEIS is being prepared in accordance with the National Environmental Policy Act of 1969 (NEPA), as amended, and implemented by the Council on Environmental Quality (CEQ) regulations (40 CFR parts 1500-1508), the FTA/Federal Highway Administration's Environmental Impact regulations (23 CFR part 771), and the FTA/FHWA Statewide Planning/Metropolitan Planning regulations (23 CFR part 450). This study will also comply with the requirements of the National Historic Preservation Act of 1966, as amended, section 4(f) of the 1966 U.S. Department of Transportation Act, the 1990 Clean Air Act Amendments, the Executive Order 12898 on Environmental Justice, and other applicable rules, regulations, and guidance documents.

The purpose of the Bergen-Passaic Cross County Corridor MIS/DEIS is to examine solutions for improving mobility in Bergen and Passaic Counties, New Jersey and to document the social, economic, and environmental impacts of implementing identified study alternatives. The MIS/DEIS will identify a preferred alternative that will improve mobility within that region. The MIS/DEIS will evaluate a Baseline Alternative and a Build Alternative. The Build Alternative under consideration was selected as a result of the findings of the West Shore Region Alternatives Analysis Report (December 1999). The Alternatives Analysis Report recommended an alternative for advancement to the MIS/DEIS phase of the project made up of the following components: West Shore corridor commuter rail service via the Meadowlands Sports Complex; Northern Branch corridor light rail service via Hudson Bergen Light Rail Transit (HBLRT); and NYS&W corridor light rail service via HBLRT. All three of these proposed new rail services would involve construction of new transportation infrastructure, including tracks, stations and yards. This MIS/DEIS will examine the Bergen-Passaic Cross County Corridor (NYS&W) light rail service via HBLRT.

DATES: Comment Due Date: Written comments on the scope of the MIS/DEIS should be sent to NJ TRANSIT by August 15, 2001. See ADDRESSES below.

Scoping Meeting: Public scoping meetings for the Bergen-Passaic Cross County Corridor MIS/DEIS will be held on:

• Tuesday, July 10, 2001

3 p.m. to 5 p.m. and 7 p.m. to 9 p.m., Bergen County Administration Building, Freeholders Room, 5th Floor, 1 Bergen County Plaza, Hackensack, New Jersey 07601

• Tuesday, July 17, 2001

3 p.m. to 5 p.m. and 7 p.m. to 9 p.m., Passaic County Administration Building, Freeholders Room, Room 223, 401 Grand Street, Paterson, New Jersey 07505

Registration to speak will begin at 2:30 p.m. and will remain open until 4:30 for the afternoon session; registration to speak will begin at 6:30 p.m. and will remain open until 8:30 p.m. for the evening session. The scoping meeting will conclude at 4:30 p.m. and 8:30 p.m., respectively, if there are no remaining registered speakers.

People with special needs should contact Steven Jurow at NJ TRANSIT at the address below or call the study toll-free information line at 1-866-658-9874. The buildings are accessible to people with disabilities. A sign language interpreter will be made available for the hearing impaired by calling the study toll-free information line at 1-866-658-9874.

Scoping material will be available at the meetings and may also be obtained in advance of the meetings by contacting Steven Jurow at the address below or by calling the study toll-free information line above. Oral and written comments may be given at the scoping meetings; a stenographer will record all comments.

ADDRESSES: Written comments on the project scope should be sent to Steven Jurow, Project Manager, NJ TRANSIT, One Penn Plaza East, Newark, NJ 07105-2246. The scoping meetings will be held at the locations identified above.

FOR FURTHER INFORMATION CONTACT: If you wish to be placed on the mailing list to receive further information as the study develops, contact Steven Jurow at the above address or call the study toll-free information line at 1-866-658-9874. For further information, you may also contact: Mr. Irwin B. Kessman, Director, Office of Planning and Program Development, Federal Transit Administration, Region II, One Bowling Green, Room 429, New York, New York, 10004-1415; phone: 212-668-2170, fax: 212-668-2136.

SUPPLEMENTARY INFORMATION:

I. Scoping

The FTA and NJ TRANSIT invite all interested individuals and organizations, and federal, state, and local agencies to provide comments on the scope of the study. During the scoping process, comments should focus on identifying specific social, economic, or environmental issues to be evaluated and suggesting alternatives, which may be less costly or have less environmental impacts, while achieving the similar transportation objectives. Comments should focus on the issues and alternatives for analysis and not on a preference for a particular alternative. Scoping materials will be available at the meetings or in advance of the meetings by contacting Steven Jurow at NJ TRANSIT, as indicated above. The Bergen-Passaic Cross County Corridor MIS/DEIS will be closely coordinated with major regional initiatives and studies that are related to this effort, including:

• Secaucus Transfer Station, a NJ TRANSIT project currently under construction that will create a connection between the existing Main, Bergen County, and Pascack Valley Lines with the Northeast Corridor Line, improving access to Midtown Manhattan and other destinations;

• Hudson-Bergen Light Rail Transit (HBLRT), a NJ TRANSIT project currently under construction that will create a new light rail line operating from the Vince Lombardi Park-and-Ride to Bayonne. The initial segment in Jersey City and Bayonne opened in April 2000;

• Newark Airport Station/Monorail Extension, a NJ TRANSIT project currently under construction that will connect the Northeast Corridor Line and the Newark Airport Monorail;

• West Shore Corridor MIS/DEIS, a study by NJ TRANSIT that will examine the potential benefits, costs, and impacts of alternatives for improving access in the West Shore study area, including a potential commuter rail service via the Meadowlands Sports Complex;

• Northern Branch Corridor MIS/DEIS, a study by NJ TRANSIT that will examine the potential benefits, costs, and impacts of alternatives for improving access in the Northern Branch study area, including a potential light rail service via the Hudson Bergen Light Rail;

• West Haverstraw Extension Study, a study by Rockland County and NJ TRANSIT examining the potential to extend the West Shore Commuter Rail service to West Haverstraw, New York;

• Access to the Region's Core Study (ARC), a joint study by NJ TRANSIT, Port Authority of New York and New Jersey, and the Metropolitan Transportation Authority (MTA). The ARC study continues to study access to Midtown Manhattan from points east and west;

• Penn Station Access MIS/DEIS, a study by Metro-North to examine improving access to Penn Station to/from the Metro-North service area; and

• Conrail/CSX/Norfolk Southern Merger, a change in the ownership of the freight network, dividing the former Conrail holdings between CSX and Norfolk Southern.

Following the public scoping process, public outreach activities will include meetings with a Community Liaison Committee (CLC) established for the study and comprised of community leaders; public meetings and hearings; distribution of study newsletter(s); and use of other outreach mechanisms. Every effort will be made to ensure that the widest possible range of public participants has the opportunity to attend general public meetings (e.g., scoping meetings and public hearing(s)) held by NJ TRANSIT to solicit input on the Bergen—Passaic Cross County Corridor MIS/DEIS. Attendance will be sought through mailings, notices, advertisements, and press releases.

II. Description of Study Area and Transportation Needs

The study area includes the NYS&W corridor through Ridgefield, Ridgefield Park, Bogota, Hackensack, Maywood, Rochelle Park, Saddle Brook, Elmwood Park, Paterson and Hawthorne in New Jersey. The purpose of the Bergen—Passaic Cross County Corridor MIS/DEIS is to examine solutions for addressing mobility issues in Bergen and Passaic Counties, New Jersey, and to identify a preferred alternative that will improve mobility within that region. The MIS/DEIS will be conducted in coordination with other major network expansion proposals under study or construction within the region. The MIS/DEIS will examine and document the social, economic, and environmental impacts of implementing identified study alternatives.

Provision of new transportation service in the Bergen—Passaic Cross County corridor would address:

• Commuting to New York City (trans-Hudson), from Bergen and Passaic Counties;

• Inter- and intra-corridor commuting, both to employment centers within the study corridors, and from the study corridors to employment locations in other areas of New Jersey; and,

• Non-work trips including business, shopping, recreational, and education to New York City, within the corridor, and to destinations outside the corridor in New Jersey.

III. Alternatives

The alternatives proposed for evaluation include:

(1) The Baseline Alternative, which includes no-build conditions, plus any cost-effective transit improvements that can be implemented, short of the proposed new start alternative. The no-build conditions involve the current infrastructure of highways, trains, and bus services, in addition to all ongoing, committed and funded roadway and transit projects outlined in the State Transportation Improvement Program (STIP) including projects under construction such as the Secaucus Transfer Station and the Hudson-Bergen Light Rail Transit (HBLRT). Transit improvements lower in cost than the proposed new start alternative were also identified for inclusion in the Baseline Alternative, including a bus component, from Bergen County to the East Midtown Manhattan; and a rail component, a new rail station in Saddle Brook on the Bergen County Line.

(2) The Build Alternative, Bergen—Passaic Cross County Corridor light rail service via HBLRT. The Build Alternative will involve construction of new transportation infrastructure, including tracks, stations and yards. Additional reasonable Build alternatives suggested during the scoping process, including those involving other modes, may be considered.

IV. Probable Effects

The FTA and NJ TRANSIT will evaluate all potential changes to the social, economic, and physical environment, including air quality, noise and vibration, traffic, parking, transit, pedestrians and freight rail, energy and potential for conservation, electric and magnetic fields, safety and security, water quality, wetlands, flooding, navigable waterways and coastal zones, ecologically sensitive areas, endangered species, hazardous waste, land acquisition and displacements, land use, zoning and economic development, consistency with local plans, historic properties and resources, parkland, archaeology, aesthetics, community disruption, environmental justice, construction impacts, and cumulative impacts. Key areas of environmental concern would be in the areas of potential new construction (e.g. new stations, new track, etc.). The impacts will be evaluated both for the construction period and for the long-term period of operation of each alternative. Measures to mitigate any significant adverse impacts will be identified.

V. FTA Procedures

The DEIS will be prepared in conjunction with a major investment study and will document the results of that study, including an evaluation of the potential social, economic, and environmental impacts of the alternatives. Upon completion, the MIS/DEIS will be available for public and agency review and comment. Public hearing(s) will be held within the study area. On the basis of the MIS/DEIS and the public and agency comments received, a locally preferred alternative will be selected, to be further detailed in the final EIS.

Issued on: June 13, 2001.
Letitia Thompson,
Regional Administrator, TRO-II, Federal Transit Administration.

[FR Doc. 01-15328 Filed 6-15-01; 8:45 am]

BILLING CODE 4910-57-P